DEPARTMENT OF HEALTH AND HUMAN SERVICES

Indian Health Service

Tribal Self-Governance Program Negotiation Cooperative Agreement; Initial Discretionary Funding Cycle for Fiscal Year 2005, Funding Opportunity Number: HHS-2005-IHS-TSGP-002, CFDA Number: 93.210

Key Dates: Applications Due—July 8, 2005; Objective Review Committee to Evaluate Applications—August 3-4, 2005; Anticipated Project Start Date—September 15, 2005.

I. Funding Opportunity Description

The purpose of the program is to award cooperative agreements that provide negotiation resources to Tribes interested in participating in the Tribal Self-Governance Program (TSGP) as authorized by Title V, Tribal Self-Governance Amendments of 2000 of the Indian Self-Determination and Education Assistance Act of Public Law (Pub. L.) 93-638, as amended. The TSGP is designed to promote self-determination by allowing Tribes to assume more control of Indian Health Service (IHS) programs and services through compacts negotiated with the IHS. The Negotiation Cooperative Agreement provides Tribes with funds to help cover the expenses involved in preparing for and negotiating with the IHS and assists eligible Indian Tribes to prepare for Compacts and Funding Agreements (FAs) with an effective date of October 1, 2005, or January 1, 2006.

The Negotiation Cooperative Agreement provides resources to assist Indian Tribes to conduct negotiation activities that include but not limited to:

• Analysis of the complex IHS budget to determine what programs, services, functions, and activities (PSFAs) will be negotiated.

• Development of the terms and conditions that will be set forth in a Compact and Funding Agreement (FA).

• Consultant costs such as Attorney or Financial Advisors.

• Communication Costs.

• Identification of tribal shares that will be included in the FA.

The award of a Negotiation Cooperative Agreement is not required as a prerequisite to enter the TSGP. Indian tribes that have completed comparable health planning activities in previous years using tribal resources but have not received a Tribal self-governance planning award are also eligible to apply. A report of the applicant's health planning activity must accompany the application.

II. Award Information

Type of Award: Cooperative Agreement.

Estimated Funds Available: The total amount identified for fiscal year (FY) 2005 is $240,000 for approximately twelve (12) Tribes to enter the TSGP negotiation process for compacts beginning in fiscal year (FY) 2006 or calendar year (CY) 2006. Awards under this announcement are subject to the availability of funds.

Anticipated Number of Awards: The estimated number of awards to be funded is approximately 12.

Project Period: 12 months.

Award Amount: $20,000 per year.

Programmatic Involvement: IHS TSGP funds will be awarded as cooperative agreements and will have substantial programmatic involvement to establish a process through which Tribes can effectively approach the IHS to identify programs and associated funding which could be incorporated into programs.

The IHS roles and responsibilities will include:

• Identification of IHS staff that will consult with applicants on methods used by the IHS to manage and deliver health care.

• Provide applicants with a list of laws and regulations that provide authority for the various IHS programs.

The Grantee roles and responsibilities will include:

• Research and analysis of the complex IHS budget, at the Service Unit, Area, and Headquarters levels.

• Establishment of a basic understanding of IHS PSFAs operations at the Service Unit, Area, and Headquarters levels.

III. Eligibility Information

1. Eligible Applicants

To be eligible for a negotiation cooperative agreement under this announcement, an applicant must meet all of the following criteria:

A. Be a Federally-recognized Tribe as defined in Title V, Pub. L. 106-260, Tribal Self-Governance Amendments of 2000, of the Indian Self-Determination and Education Assistance Act (the Act), Pub. L. 93-638, as amended. However, Alaska Native Villages or Alaska Native village corporations, who are located within the area served by an Alaska Native regional health entity already participating in compact status, are not eligible (Pub. L. 106-260, Title V, Section 12(a)(2)). Those Tribes not represented by a self-governance Tribal consortium compact that have previously received negotiation funds may still be considered to participate in the TSGP, subject to the provisions in this announcement, however, with the following exception cited in Section 351, Pub. L. 105-277, the FY 1999 Omnibus appropriations Bill: “Notwithstanding any other provision of law, prior to September 1, 2001, the IHS may not disburse funds for the provision of health care services pursuant to Pub. L. 93-638 (25 U.S.C. 450, et seq.) with any Alaska Native Village or Alaska Native Village Corporation that is located within the area served by an Alaska Native regional health entity.“

2. Cost Sharing or Matching Funds

The Self-Governance Negotiation Cooperative Agreement Announcement does not require matching funds or cost sharing to participate in the competitive grant process.

3. Other Requirements

The following documentation is required (if applicable):

A. This program is described at 93.210 in the Catalog of Federal Domestic Assistance. There is limited competition under this announcement because the authorizing legislation restricts eligibility to Tribes that meet specific criteria. (Refer to Section III, Eligible Applicants in this announcement.)

B. Request participation in self-governance by resolution by the governing body of the Indian Tribe. An Indian Tribe that is proposing a cooperative agreement affecting another Indian Tribe must include resolutions from all affected Tribes to be served.

C. Demonstrate, for three FY's, financial stability and financial management capability, which is defined as no uncorrected significant and material audit exceptions in the required annual audit of the Indian Tribe's self-determination contracts or self-governance funding agreements with any Federal agency.

D. Applicants must submit copies of audits prescribed by Pub. L. 98-502, the Single Audit Act, as amended (see OMB Circular A-133, revised June 24, 2997, Audits of States, Local Governments, and Non-Profit Organizations), for the three previous fiscal years. If this documentation is not submitted, the application will be considered as unresponsive and will not be considered.

E. Tribal Resolution—A resolution of the Indian Tribe served by the project must accompany the application submission. An Indian Tribe that is proposing a project affecting another Indian Tribe must include resolutions from all affected Tribes to be served. Draft resolutions are acceptable in lieu of an official resolution. However, an official signed Tribal resolution must be received by the Division of Grants Operations (DGO) prior to the beginning of the Objective Review (August 3-4, 2005). If an official signed resolution is not submitted by August 2, 2005, the application will be considered incomplete and will be returned without consideration.*

* It is highly recommended that the Tribal resolution be sent by Federal Express for proof of receipt.

IV. Application and Submission Information

1. Address to request application package: Interested parties may request a copy of the application kit from either of the following persons:

Ms. Mary E. Trujillo, Office of Tribal Self-Governance, Indian Health Service, 801 Thompson Avenue, Suite 240, Rockville, Maryland 20852, (301) 443-7821.

Ms. Patricia Spotted Horse, Division of Grants Operations, Indian Health Service, 801 Thompson Avenue, TMP 100, Rockville, Maryland 20852, (301) 443-5204.

• Web address to obtain application kit: http://www.ihs.gov/NonMedicalPrograms/SelfGovernance.

2. Content and Form of Application Submission: A. All applications should:

• Be single spaced.

• Be typewritten.

• Have consecutively numbered pages.

• Use black type not smaller than 12 characters per one inch.

• Be printed on one side only of standard size 8½″ x 11″ paper.

• Not be tabbed, glued, or placed in a plastic holder.

• Contain a narrative that does not exceed 7 typed pages that includes the sections listed below. (The 7 page narrative does not include the work plan, standard forms, Tribal resolution(s), table of contents, budget, budget justifications, narratives, and/or other appendix items.)

Public Policy Requirements: All Federal-wide public policies apply to IHS grants with exception of Lobbying and Discrimination.

B. For paper application submission, include in the application the following documents in the order presented. The Application Receipt Record, Checklists, General Information Page, Standard Forms, Certifications, and Disclosure of Lobbying Activities documents will be available in the appendix of application kit.

• Application Receipt Record, IHS-815-1A (Rev. 3/05).

• FY 2005 Application Checklist.

• Tribal Resolution (final signed or draft unsigned).

• Standard Form 424A, Application for Federal Assistance.

• Standard Form 424A, Budget Information—Non-Construction Programs (pages 1-2).

• Standard Form 424B, Assurance—Non-Construction Programs (front and back). The application shall contain assurances to the Secretary that the applicant will comply with program regulations, 42 CFR Part 36, Subpart H.

• Certifications (pages 17-19).

• PHS-5161 Checklist (pages 25-26).

• Disclosure of Lobbying Activities

• Table of Contents with corresponding numbered pages.

• Project Narrative not to exceed 7 typewritten pages.

• Categorical Budget and Budget Justification.

• Appendix Items.

3. Submission Dates and Times: Applications must be postmarked on or before Friday, July 8, 2005. Include one original and two complete copies of the final proposal with all required signatures and documentation. Mark the original application with a cover sheet that states, “Original Grant Application.” Mail or hand-deliver applications to the Division of Grants Operations, Indian Health Service, 801 Thompson Avenue, TMP 100, Rockville, Maryland 20852. Please note: All mailed applications must be postmarked on or before July 8, 2005. Applications are cautioned that express/overnight mail services do not always deliver as agreed. IHS cannot accommodate transmission of applications by Fax or E-mail. IHS does not acknowledge receipt of applications received.

Hand Delivered Proposals: Hand-delivered proposals will be accepted from 8 a.m. to 5 p.m. eastern standard time, Monday through Friday. Applications will be considered to meet the deadline if they are received on or before the deadline, with hand-carried applications received by close of business July 8, 2005, at 5 p.m., eastern standard time. For mailed applications, a dated, legible receipt from a commercial carrier or the U.S. Postal Service will be accepted in lieu of a postmark. Private metered postmarks will not be accepted as proof of timely mailing. Late applications not accepted for processing will be returned to the applicant and will not be considered for funding. Receipt of applications will be acknowledged via the IHS-815-1A (Rev. 3/05) Application Receipt Record.

4. Intergovernmental Review: This funding opportunity is not subject to Executive Order 12372, “Intergovernmental Review of Federal Programs.” State approval is not required.

5. Funding Restrictions:

A. Only one negotiation cooperative agreement will be awarded per applicant.

B. Each negotiation cooperative agreement shall not exceed $20,000. The available funds are inclusive of direct and indirect costs.

C. Negotiation awards shall not exceed a maximum period of one year.

D. Pre-award costs are not allowable.

6. Other Submission Requirements:

The applicant must comply with the following:

A. Abstract (one page)—Summarizes the project.

B. Application for Federal Assistance (SF-424, Rev. 09/03).

C. Narrative (no more than 7 pages) with time frame chart (one page); pages numbered consecutively, including appendices, and Table of Contents, and should include the following:

(1) Background information on the Tribe.

(2) Objectives and activities that provide a description of what will be accomplished.

(3) A line-item budget and narrative justification.

(4) Appendix to include:

a. Resumes or position descriptions of key staff.

b. Contractors/Consultants resumes or qualifications.

c. Proposed Scope of Work.

d. Application Receipt Card (IHS 814-1A, Rev. 3/05).

e. Two copies of a report of health activities that have been performed either through an IHS Self-Governance Health Cooperative Agreement or a comparable health-project.

Electronic Transmission—You may submit your application to us in either electronic or paper format. To submit an application electronically, please use the http://www.Grants.gov apply site. If you use Grants.gov, you will be able to download a copy of the application package, complete it offline and then upload and submit the application via the Grants.gov site. You may not e-mail an electronic copy of a grant application to us.

Please note that if you plan to submit your application electronically via Grants.gov:

• Electronic submission is voluntary.

• When you enter the Grants.gov site, you will find information about submitting an application electronically through the site, as well as the hours of operation. We strongly recommend that you do not wait until the deadline date to begin the application process through Grants.gov.

• To use Grants.gov, you, as the applicant, must have a DUNS Number and register in the Central Contractor Registry (CCR). You should allow a minimum of five days to complete CCR registration. See below on how to apply.

• You will not receive additional point value because you submit a grant application in electronic format, nor will we penalize you if you submit an application in paper format.

• You may submit all documents electronically, including all information typically included on the SF-424 and all necessary assurances and certifications.

• Your application must comply with any page limitation requirements described in the program announcement.

• After you electronically submit your application, you will receive an automatic acknowledgment from Grants.gov that contains a Grants.gov tracking number. The Indian Health Service will retrieve your application from Grants.gov.

• You may access the electronic application for this program on http://www.Grants.gov.

• You must search for the downloadable application package by CFDA number.

E-mail applications will not be accepted under this announcement.

DUNS Number

Beginning October 1, 2003, applicants were required to have a Dun and Bradstreet (DUNS) number to apply for a grant or cooperative agreement from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

To submit an application electronically, applicants must also be registered with the Central Contractor Registry (CCR). A DUNS number is required before CCR registration can be completed. Many organizations may already have a DUNS number. Please use the number listed above to investigate whether or not your organization has a DUNS number. Registration with the CCR is free of charge.

Applicants may register by calling 1-888-227-2423. Please review and complete the CCR “Registration Worksheet” located in the appendix of the TSGP Negotiation Cooperative Agreement application kit or on http://www.grants.gov/CCRRegister.

More detailed information regarding these registration processes can be found at http://www.grants.gov.

V. Application Review Information

The instructions for preparing the application narrative also constitute the evaluation criteria for reviewing and scoring the application. Weights assigned to each section are noted in parentheses.

1. Criteria

Demonstration of Previous Planning Activities (30 Points)

Thoroughness and appropriateness of planning activity to proposed scope of compact is demonstrated i.e., has the Indian Tribe determined the PSFAs to be assumed? Has the Indian Tribe determined it has the administrative infrastructure to support the assumption of the PSFAs? Are the results of what was learned or is being learned during the planning process clearly stated?

Thoroughness of Approach (25 Points)

Is a specific narrative provided of the direction the Indian Tribe plans to take in the TSGP? How will the Tribe demonstrate improved health and services? Is the Indian Tribe ready to negotiate a compact to begin October 1, 2005 or January 1, 2006? Are proposed time lines for negotiations indicated?

Project Outcome (25 Points)

What beneficial contributions are expected or anticipated to the TSGP projected? Is information provided on the services that will be assumed? How will any improvements be made to managing the health program under the TSGP to better serve its tribal members? Are tribal needs discussed in relation to programmatic alternatives and outcomes?

Administrative Capabilities (20 Points)

Does the Indian Tribe clearly demonstrate knowledge and experience in the operation and management of other health programs? Is the internal management and administrative infrastructure of the applicant described and its relationship to the successful implementation of self-governance operation of health programs explained?

Appendix Items

• Work plan for proposed objectives.

• Position descriptions for key staff.

• Résumés of key staff that reflect current duties.

• Consultant proposed scope of work (if applicable).

• Indirect Cost Agreement.

• Organizational chart (optional).

2. Review and Selection Process

In addition to the above criteria/requirements, applications are considered according to the following:

A. Application Submission (Application Deadline: July 8, 2005). Applications submitted in advance of or by the deadline and verified by the postmark will undergo a preliminary review to determine that:

• The applicant and proposed project type is eligible in accordance with this grant announcement.

• The application is not a duplication of a previously funded project.

• The application narrative, forms, and materials submitted meet the requirements of the announcement allowing the review panel to undertake an in-depth evaluation; otherwise, it may be returned.

B. Competitive Review of Eligible Applications (Objective Review: August 3-4, 2005).

Applications meeting eligibility requirements that are complete, responsive, and conform to this program announcement will be reviewed for merit by the Objective Review Committee (ORC) appointed by the IHS to review and make recommendations on these applications. The review will be conducted in accordance with IHS Objective Review Guidelines. The technical review process ensures selection of quality projects in a national competition for limited funding. Applications will be evaluated and rated on the basis of the evaluation criteria listed in Section V.1. The criteria are used to evaluate the quality of a proposed project, determine the likelihood of success, and assign a numerical score to each application. The scoring of approved applications will assist the IHS in determining which proposals will be funded if the amount of TSGP funding is not sufficient to support all approved applications. Applications recommended for approval, having a score of 60 or above by the ORC and scored high enough to be considered for funding, are forwarded by the Division of Grants Operations (DGO) for cost analysis and further recommendation. The program official forwards the final approved list to the IHS Director for final review and approval. Applications scoring below 60 points will be disapproved and returned to the applicant.

Note: In making final selections, the IHS Director will consider the ranking factor and the status of the applicant's single audit reports. The comments from the ORC will be advisory only. The IHS Director will make the final decision on awards.

VI. Award Administration Information

1. Award Notices

The Division of Grants Operations (DGO) will not award a grant without an approved application in conformance with regulatory and policy requirements which describes the purpose and scope of the project to be funded. When the application is approved for funding, the DGO will prepare a Notice of Grant Award (NGA) with special terms and conditions binding upon the award and refer to all general terms applicable to the award. The NGA will serve as the official notification of a grant award and will state the amount of Federal funds awarded, the purpose of the grant, the terms and conditions of the grant award, the effective date of the award, the project period, and the budget period.Any other correspondence announcing to the Project Director that an application was selected is not an authorization to begin performance.

2.Administrative and National Policy Requirements

Grants are administered in accordance with the following documents:

• This grant announcement.

• Health and Human Services regulations governing Pub. L. 93-638 grants at 42 CFR 36.101 et seq.

• 45 CFR Part (2, “Department of Health and Human Services, Uniform Administrative Requirements for Grants and Cooperative Agreements to State and Local Governments Including Indian Tribes,” or 45 CFR Part 74, “Administration of Grants to Non Profit Recipients.”

• Public Health Service Grants Policy Statement.

• Grants Policy Directives.

• Appropriate Cost Principles: OMB Circular A-87, “State and Local Governments,” or “OMB Circular A-122, “Non-Profit Organizations.”

• OMB Circular A-133, “Audits of States, Local Governments, and Non-Profit Organizations.”

• Other Applicable OMB Circulars.

3. Reporting

A. Progress Report. Program progress reports are required semi-annually. These reports will include a brief comparison of actual accomplishments to the goals established for the period, reasons for slippage (if applicable), and other pertinent information as required. A final report must be submitted within 90 days of expiration of the budget/project period.

B. Financial Status Report. Semi-annual financial status reports must be submitted within 30 days of the end of the half year. Final financial status reports are due within 90 days of expiration of the budget project period. Standard Form 269 (long form) will be used for financial reporting.

Grantees are responsible and accountable for accurate reporting of the Progress Reports and Financial Status Reports which are generally due annually. Financial Status Reports (SF-269) are due 90 days after each budget period and the final SF-269 must be verified from the grantee records on how the value was derived. Grantees are allowed a reasonable period of time in which to submit financial and performance reports.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.”

VII. Agency Contact(s)

1. Questions on the programmatic and technical issues may be directed to: Mary E. Trujillo, Program Specialist, Telephone No.: 301-443-7821, Fax No.: 301:443-1050, E-mail: metrujil@hqe.ihs.gov.

2. Questions on grants management and fiscal matters may be directed to: Patricia Spotted Horse, Grants Management Specialist, Telephone No.: 301-443-5204, Fax No.: 301-443-9602, E-mail: pspotted@hqe.ihs.gov.

VIII. Other Information

The Public Health Service (PHS) strongly encourages all grant and contract recipients to provide a smoke-free workplace and promote the non-use of all tobacco products. In addition, Pub. L. 103-227, the Pro-Children Act of 1994, prohibits smoking in certain facilities (or in some cases, any position of the facility) in which regular or routine education, library, day care, health care or early childhood development services are provided to children. This is consistent with the PHS mission to protect and advance the physical and mental health of the American people.

Dated: May 25, 2005.
Charles W. Grim,
Assistant Surgeon General, Director, Indian Health Service.

[FR Doc. 05-10958 Filed 6-1-05; 8:45 am]

BILLING CODE 4165-16-M